DEPARTMENT OF ENERGY

Federal Energy Regulatory Commission

[Docket No. RP03-560-001]

OkTex Pipeline Company; Notice of Compliance Filing

September 17, 2003.

Take notice that on September 11, 2003, OkTex Pipeline Company (OkTex), tendered for filing as part of its FERC Gas Tariff, Original Volume No. 1, the following tariff sheets, with an effective date of July 1, 2003:

Substitute Third Revised Sheet No. 1.

Substitute Seventh Revised Sheet No. 3.

Substitute Tenth Revised Sheet No. 39.

Sixth Revised Sheet No. 40D.

OKTex also states that the filing is being made in compliance with the Commission's directives in Docket No. No. RP03-560.

OkTex notes that the tariff sheets reflect the changes to OkTex's tariff that result from the North American Standards Board's (NAESB) consensus standards that were adopted by the Commission in its March 12, 2003 Order No. 587-R in Docket No. RM96-1-024 and the Recommendations in R02002 and R02002-2 of the NAESB Wholesale Gas Quadrant (WGQ). OkTex states that it will implement the NAESB consensus standards for July 1, 2003 business, and that the revised tariff sheets therefore reflect an effective date of July 1, 2003.

OkTex states that copies of the filing have been mailed to all affected customers and state regulatory commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 23, 2003.

Magalie R. Salas,
Secretary.

[FR Doc. 03-24246 Filed 9-24-03; 8:45 am]

BILLING CODE 6717-01-P